SMALL BUSINESS ADMINISTRATION

[License No. 09/79-0454]

Emergence Capital Partners SBIC, L.P.; Notice Seeking Exemption Under Section 312 of the Small Business Investment Act, Conflicts of Interest

Notice is hereby given that Ironwood Mezzanine Fund II, L.P., 55 Nod Rd., Avon, CT 06001, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Ironwood Mezzanine Fund II, L.P. proposes to provide debt financing to Action Environmental Group, Inc., 451 Frelinghuysen Avenue, Newark, NJ 07114 (“Action Carting”). The proceeds will be used to finance a single-stream material recovery facility.

The financing is brought within the purview of § 107.730(a)(1) of the Regulations because Ironwood Equity Fund L.P., an Associate of Ironwood Mezzanine Fund II, L.P., owns more than ten percent of Action Carting. Therefore, Action Carting is considered an Associate of the Licensee and this transaction is considered Financing an Associate, requiring prior SBA approval.

Notice is hereby given that any interested person may submit written comments on the transaction within 15 days of the date of this publication to the Associate Administrator for Investment, U.S. Small Business Administration, 409 Third Street SW., Washington, DC 20416.

Dated: November 25, 2011.
Sean J. Greene,
Associate Administrator for Investment.

[FR Doc. 2011-31825 Filed 12-9-11; 8:45 am]

BILLING CODE P